ENVIRONMENTAL PROTECTION AGENCY

[EPA-HQ-OPPT-2002-0001; FRL-8099-4]

National Pollution Prevention and Toxics Advisory Committee (NPPTAC); Notice of Public Meeting; Cancellation

AGENCY: Environmental Protection Agency (EPA).

ACTION: Notice.

SUMMARY: In the Federal Register of September 15, 2006 (71 FR 54480) (FRL-8093-2), EPA announced a public meeting of the National Pollution Prevention and Toxics Advisory Committee (NPPTAC). The purpose of this notice is to inform the public that the NPPTAC public meeting has been canceled. Meetings of the Committee Work Groups have also been canceled. This includes the Pollution Prevention (P2) Work Group, the Information Integration and Data Use Work Group, and the Government Accountability Office (GAO) Reports Interim Work Group meetings.

DATES: The meeting scheduled to be held on October 4, 2006, from 8:30 a.m. to 5:30 p.m., and October 5, 2006, from 10:15 a.m. to 1 p.m., has been canceled.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address:TSCA-Hotline@epa.gov.

For technical information contact: John Alter, (7408), Office of Pollution Prevention and Toxics, Environmental Protection Agency, 1200 Pennsylvania Ave., NW., Washington, DC 20460-0001; telephone number: (202) 564-9891; e-mail address: npptac.oppt@epa.gov.

List of Subjects

Environmental protection, Chemical health and safety, NPPTAC, Pollution prevention, Toxics, Toxic chemicals.

Dated: September 28, 2006.
Charles M. Auer,
Director, Office of Pollution Prevention and Toxics.

[FR Doc. 06-8433 Filed 9-28-06; 1:14 pm]

BILLING CODE 6560-50-S